FEDERAL ELECTION COMMISSION

Sunshine Act Meetings

FEDERAL REGISTER CITATION NOTICE OF PREVIOUS ANNOUNCEMENT: 83 FR 9316 (March 5, 2018).

PREVIOUSLY ANNOUNCED TIME AND DATE OF THE MEETING: Thursday, March 8, 2018 at 10:00 a.m.

CHANGES IN THE MEETING: The Following Item Was Also Discussed: Draft Advisory Opinion 2018-01—Libertarian Party of Utah.

CONTACT PERSON FOR MORE INFORMATION: Judith Ingram, Press Officer; Telephone: (202) 694-1220.

Dayna C. Brown,
Secretary and Clerk of the Commission.

[FR Doc. 2018-04999 Filed 3-8-18; 11:15 am]

BILLING CODE 6715-01-P